DEPARTMENT OF ENERGY

Federal Energy Regulatory Commission

[Docket No. RP01-432-002]

Columbia Gas Transmission Corporation; Notice of Compliance Filing

July 19, 2001.

Take notice that on July 12, 2001, Columbia Gas Transmission Corporation (Columbia) tendered for filing a compliance filing in Docket No. RP01-432.

On June 27, 2001, the Commission issued an order in the above referenced docket (June 27 Order). The Commission noted, however, that a pipeline must demonstrate that the filed for service “could not be provided under a generally applicable tariff.” The Commission also found that Columbia “had not provided sufficient information for other shippers to evaluate the operational impact of Columbia's proposed service.” Columbia therefore was ordered to file the supporting information within 15 days. Columbia is submitting the instant filing in compliance with these directives.

Columbia states that copies of its filing have been mailed to all parties on the official service list in this proceeding.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18502 Filed 7-24-01; 8:45 am]

BILLING CODE 6717-01-P